AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration.

DATES: The meeting date is Tuesday, July 19, 11 a.m. to 12 p.m. Executive session 12 p.m.

ADDRESSES: The meeting location is USADF, 1400 I St. NW., Suite 1000, Washington, DC 20005.

FOR FURTHER INFORMATION CONTACT: Aysha House, 202-233-8863.

Authority: Pub. L. 96-533 (22 U.S.C. 290h).

Dated: July 11, 2016.
Doris Mason Martin,
General Counsel.

[FR Doc. 2016-16730 Filed 7-14-16; 8:45 am]

BILLING CODE 6117-01-P